DEPARTMENT OF ENERGY

Federal Energy Regulatory Commission

[Docket No. RP99-195-004]

Equitrans, L.P.; Notice of Compliance Filing

December 6, 2001.

Take notice that on November 30, 2001, Equitrans, L. P. (Equitrans) filed the following revised tariff sheets in order to comply with the Commission's November 30, 2000. Letter Order in Docket No. RP99-195-004 that approved an uncontested settlement relative to product extractions services on Equitrans' system. Such revised tariff sheets are proposed to be effective as of December 1, 2001.

Eighth Revised Sheet No. 6

Second Revised Sheet No. 22

Second Revised Sheet No. 23

Second Revised Sheet No. 28

Second Revised Sheet No. 31

First Revised Sheet No. 32

Second Revised Sheet No. 74

Second Revised Sheet No. 75

Second Revised Sheet No. 303

Equitrans states that under the approved, uncontested settlement it was authorized to collect both a $.0067 per Dth surcharge in order to recover certain agreed-upon product extraction underrecollections and an interim $.10 per Dth products extraction rate through November 30, 2001 while existing shippers were to make their own products extraction arrangements. Equitrans further states that, consistent with the approved settlement, the revised tariff sheets remove from its tariff both the surcharge and the interim products extraction rate now that it has recovered the agreed-upon underrecollections and that the interim period has expired for existing shippers to make their own products extraction arrangements. The revised tariff sheets are proposed in accordance with the settlement to be effective as of December 1, 2001.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-30710 Filed 12-11-01; 8:45 am]

BILLING CODE 6717-01-P